Title 3—

The President

Proclamation 9130 of May 19, 2014

National Maritime Day, 2014

By the President of the United States of America

A Proclamation

America's open seas have long been a source of prosperity and strength, and since before our Nation's founding, the men and women of the United States Merchant Marine have defended them. From securing Atlantic routes during the naval battles of the Revolutionary War to supplying our Armed Forces around the world in the 21st century and delivering American goods to overseas markets in times of peace, they have always played a vital role in our Nation's success. During National Maritime Day, we celebrate this proud history and salute the mariners who have safeguarded our way of life.

Today's Merchant Marine upholds its generations-long role as our “fourth arm of defense.” Yet they also go beyond this mission, transporting food where there is hunger and carrying much-needed supplies to those in distress. Thanks to our dedicated mariners, people around the world continue to see the American flag as a symbol of hope.

To create middle-class jobs and maintain our leading position in an ever-changing world, we must provide new marketplaces for our businesses to compete. As we expand commerce, we do so with confidence that the United States Merchant Marine will keep our supply lines secure. Because just as America's workers and innovators can rise to any challenge, our mariners have demonstrated time and again that they can meet any test. Today, let us reaffirm our support for their essential mission.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2014, as National Maritime Day. I call upon the people of the United States to mark this observance and to display the flag of the United States at their homes and in their communities. I also request that all ships sailing under the American flag dress ship on that day.

IN WITNESS WHEREOF, I have hereunto set my hand this nineteenth day of May, in the year of our Lord two thousand fourteen, and of the Independence of the United States of America the two hundred and thirty-eighth.

[FR Doc. 2014-12345

Filed 5-23-14; 8:45 am]

Billing code 3295-F4